DEPARTMENT OF HOMELAND SECURITY

Coast Guard

[Docket No. USCG-2020-0490]

Commercial Fishing Safety Advisory Committee; Meeting

AGENCY: U.S. Coast Guard, Department of Homeland Security.

ACTION: Notice of Federal Advisory Committee virtual meeting.

SUMMARY: The Commercial Fishing Safety Advisory Committee (Committee) will meet via a virtual meeting to discuss voluntary guidelines for the prevention of falls overboard situations, as described in task statement #01-19(b). The virtual meeting will be open to the public.

DATES:

Meeting. The Committee is scheduled to meet virtually on Thursday, September 24, 2020, from 1 p.m. to 3 p.m. Eastern Daylight Time. Please note that this virtual meeting may adjourn early if the Committee has completed its business.

Comments and supporting documents: To ensure your comments are received by Committee members before the virtual meeting, submit your written comments no later than September 17, 2020.

ADDRESSES: To join the virtual meeting or to request special accommodations, contact the individual listed in the FOR FURTHER INFORMATION CONTACT section no later than 1 p.m. on September 17, 2020.

Instructions: You are free to submit comments at any time, including orally at the virtual meeting as time permits, however, if you desire that the Committee members review your comments before the virtual meeting, please submit your comments no later than September 17, 2020. We encourage you to submit comments through the Federal eRulemaking Portal at https://www.regulations.gov. If your material cannot be submitted using https://www/regulations.gov, call or email the individual in the FOR FURTHER INFORMATION CONTACT section of this document for alternate instructions. You must include the docket number [USCG-2020-0490]. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jonathan Wendland, Alternate Designated Federal Officer (ADFO) of the Commercial Fishing Safety Advisory Committee, telephone (202) 372-1245, or email at CGFishsafe@uscg.mil.

SUPPLEMENTARY INFORMATION: Notice of this meeting is in compliance with the Federal Advisory Committee Act, (5 U.S.C., Appendix).

The Commercial Fishing Safety Advisory Committee is authorized by Title 46 United States Code Section 4508. The Committee's purpose is to provide advice and recommendations to the United States Coast Guard and the Department of Homeland Security on matters relating to the safe operation of commercial fishing industry vessels.

Agenda

The agenda for the September 24, 2020, virtual meeting is as follows:

• Introduction.

• Roll call of Committee members and determination of a quorum.

• Comments by Designated Federal Officer (DFO).

• Comments by ADFO.

• Comments by the Committee Chairman.

• Comments by Federal Advisory Committee Representative.

• Old Business from the 40th Commercial Fishing Safety Advisory Committee meeting.

• Comments by U.S. Coast Guard Office of Standards Evaluation and Development.

• Comments by CG-NAV-3.

• New Business.

• Comments by Committee Chairman.

• Public comment period.

• Discussion: Task # 01-19(b)—Lifesaving/Man Overboard (MOB) Voluntary Best Practice Guide.

• Public comment period.

• Comments by DFO.

• Comments by Committee Chairman.

• Adjournment of meeting.

A copy of all pre-meeting documentation will be available at https://www.dco.uscg.mil/fishsafe no later than September 21, 2020. Alternatively, you may contact Mr. Jonathan Wendland as noted in the FOR FURTHER INFORMATION CONTACT section above.

During the September 24, 2020, virtual meeting, public comments will be limited to three minutes per person. Please note that the public comment period may end before the period allotted, following the last call for comments. Please contact the individual listed in the FOR FURTHER INFORMATION CONTACT section above to register as a speaker prior to September 22, 2020.

Dated: August 28, 2020.
Wayne R. Arguin Jr.,
Captain, U.S. Coast Guard, Director of Inspections and Compliance.

[FR Doc. 2020-19400 Filed 9-1-20; 8:45 am]

BILLING CODE 9110-04-P